ENVIRONMENTAL PROTECTION AGENCY

40 CFR Part 300

[FRL-6711-8]

National Oil and Hazardous Substance Pollution Contingency Plan; National Priorities List

AGENCY: Environmental Protection Agency.

ACTION: Notice of Partial Deletion of Moton Elementary School, including Mugrauer Playground (Operable Unit 4) and Groundwater (Operable Unit 5) of the Agriculture Street Landfill Superfund Site from the National Priorities List.

SUMMARY: The Environmental Protection Agency (EPA) Region 6 announces the deletion of Moton Elementary School, including Mugrauer Playground (Operable Unit 4) and Groundwater (Operable Unit 5) of the Agriculture Street Landfill Superfund Site from the National Priorities List (NPL).

The NPL, promulgated pursuant to section 105 of the Comprehensive Environmental Response, Compensation, and Liability Act (CERCLA) of 1980, as amended, constitutes Appendix B of 40 CFR Part 300 which is the National Oil and Hazardous Substances Pollution Contingency Plan (NCP). This partial deletion is consistent with the EPA's Notice of Policy Change: Policy Regarding Partial Deletion of Sites Listed on the National Priorities List, 60 FR 55466 (November 1, 1995). The EPA, in consultation with the State of Louisiana, through the Louisiana Department of Environmental Quality (LDEQ), has determined that the Operable Units pose no significant threat to public health, welfare, or the environment and, therefore, further remedial measures pursuant to CERCLA are not appropriate. Consequently, pursuant to CERCLA Section 105, and 40 CFR 300.425(e), Moton Elementary School, including Mugrauer Playground (Operable Unit 4) and Groundwater (Operable Unit 5) of the Agriculture Street Landfill Superfund Site are hereby deleted from the NPL.

Even if a site is deleted from the NPL, where hazardous substances, pollutants, or contaminants remain at the site above levels that allow for unlimited use and unrestricted exposure, CERCLA Section 121(c), 42 U.S.C. 9621(c) requires that a subsequent review of the site be conducted at least every five years after the initiation of the remedial action at the site to ensure that the action remains protective of public health and the environment. If new information becomes available which indicates a need for further action, EPA may initiate remedial actions. Whenever there is a significant release from a site deleted from the NPL, the site may be restored to the NPL without application of the Hazard Ranking System.

EFFECTIVE DATE: June 15, 2000.

FOR FURTHER INFORMATION CONTACT: Ms. Ursula R. Lennox, Remedial Project Manager, EPA (6SF-LP), 1445 Ross Avenue, Dallas, Texas 75202-2733, (214) 665-6743 or 1-800-533-3508 (Toll Free), or Ms. Janetta Coats, Community Relations Coordinator, EPA (6SF-PO), 1445 Ross Ave., Dallas, Texas 75202-2733, (214) 665-7308 or 1-800-533-3508 (Toll Free).

The Responsiveness Summary responds to comments received during the public comment period on the Notice of Intent for Partial Deletion of Moton Elementary School, including Mugrauer Playground (Operable Unit 4) and Groundwater (Operable Unit 5) of the Agriculture Street Landfill Superfund Site from the National Priorities List. Comprehensive information on the site, including the Responsiveness Summary, is available at the Agriculture Street Landfill Superfund Site information repositories located at:

EPA Region 6, 7th Floor Reception Area, 1445 Ross Avenue, Suite 1200, Dallas, Texas 75202-2733, (214) 665-6548, Mon.-Fri. 8 a.m. to 4 p.m.

Louisiana Department of Environmental Quality, Inactive and Abandoned Sites Division, 7290 Bluebonnet Road, Baton Rouge, Louisiana 70809, (504) 765-0487, Mon.-Fri. 8 a.m. to 4 p.m.

Agriculture Street Landfill Site, Community Outreach Office, 3221 Press Street, New Orleans, Louisiana 70126, (504) 944-6445, Mon. 12 noon to 6 p.m., Tues., Thurs., and Fri. 3 p.m. to 6 p.m., Wed. 10 a.m. to 3 p.m.

Requests for copies of documents should be directed in writing to EPA's Freedom of Information Officer, Ms. Jerva Durham, EPA (6MD-II), 1445 Ross Avenue, Dallas, Texas 75202-2733.

SUPPLEMENTARY INFORMATION: A Notice of Intent for Partial Deletion was published in the Federal Register on February 7, 2000 (65 FR 5844-5847).

The closing date for comment on the Notice of Intent for Partial Deletion was March 17, 2000. The EPA received one comment opposing the partial deletion and two comments in favor of the partial deletion.

The EPA identifies sites which appear to present a significant risk to public health, welfare, or the environment and it maintains the NPL as the list of those sites. Sites on the NPL may be the subject of Fund-financed remedial actions. Section 300.425(e)(3) of the NCP, 40 CFR 300.425(e)(3), states that Fund-financed actions may be taken at sites deleted from the NPL in the unlikely event that conditions at the site warrant such action. Deletion of a site from the NPL does not affect responsible party liability or impede EPA efforts to recover costs associated with response efforts.

List of Subjects in 40 CFR Part 300

Environmental protection, Air pollution control, Chemicals, Hazardous substances, Hazardous waste, Intergovernmental relations, Penalties, Reporting and recordkeeping requirements, Superfund, Water pollution control, Water supply.

Dated: May 24, 2000.
Lynda F. Carroll,
Acting Regional Administrator, Environmental Protection Agency, Region 6.

For the reasons set out in this document, 40 CFR part 300, is amended as follows:

PART 300—[AMENDED]

1. The authority citation for part 300 continues to read as follows:

Authority: 33 U.S.C. 1321(c)(2); 42 U.S.C. 9601-9657; E.O. 12777, 56 FR 54757, 3 CFR, 1991 Comp., p.351; E.O. 12580, 52 FR 2923; 3 CFR, 1987 Comp., p. 193.

Appendix B—[Amended]

2. Table 1 of Appendix B to Part 300 is amended by revising the entry for “Agriculture Street Landfill”, New Orleans, Louisiana to read as follows:

Appendix B to Part 300—National Priorities List

Table 1.—General Superfund Section
State | Site name | City/county | Notes(a)
* * * * * * *
LA | Agriculture Street Landfill | New Orleans | P
* * * * * * *
(a) * * *
* * * * *
P = Sites with partial deletion(s).

[FR Doc. 00-14771 Filed 6-14-00; 8:45 am]

BILLING CODE 6560-50-P